DEPARTMENT OF HOUSING AND URBAN DEVELOPMENT

[Docket No. FR-7034-N-71; OMB Control No: 2528-New]

30-Day Notice of Proposed Information Collection: Older Adult Home Modification Evaluation

AGENCY: Office of the Chief Information Officer, HUD.

ACTION: Notice.

SUMMARY: HUD is seeking approval from the Office of Management and Budget (OMB) for the information collection described below. In accordance with the Paperwork Reduction Act, HUD is requesting comment from all interested parties on the proposed collection of information. The purpose of this notice is to allow for 30 days of public comment.

DATES: Comments Due Date: January 18, 2022.

ADDRESSES: Interested persons are invited to submit comments regarding this proposal. Written comments and recommendations for the proposed information collection should be sent within 30 days of publication of this notice to OIRA_submission@omb.eop.gov or www.reginfo.gov/public/do/PRAMain. Find this particular information collection by selecting “Currently under 30-day Review—Open for Public Comments” or by using the search function.

FOR FURTHER INFORMATION CONTACT: Anna P. Guido, Reports Management Officer, QMAC, Department of Housing and Urban Development, 451 7th Street SW, Washington, DC 20410; email her at Anna.P.Guido@hud.gov or telephone 202-402-5535. This is not a toll-free number. Person with hearing or speech impairments may access this number through TTY by calling the toll-free Federal Relay Service at (800) 877-8339. Copies of available documents submitted to OMB may be obtained from Ms. Guido.

SUPPLEMENTARY INFORMATION: This notice informs the public that HUD is seeking approval from OMB for the information collection described in Section A.

The Federal Register notice that solicited public comment on the information collection for a period of 60 days was published on September 14, 2021 at 86 FR 51178.

A. Overview of Information Collection

Title of Information Collection: Older Adult Home Modification Evaluation.

OMB Approval Number: 2528-New.

Type of Request: New collection.

Form Number: N/A.

Description of the need for the information and proposed use: Congress authorized HUD to make grants to experienced non-profit organizations, States, local governments, or public housing agencies for safety and functional home modification repairs to meet the needs of low-income elderly homeowners to enable them to remain in their primary residence. This information collection supports HUD's evaluation on the effectiveness of the grants. HUD will both evaluate grantee implementation and the impact of the modification on the client recipients whose homes are modified.

Table 6—Estimated Time and Costs to Grantee Respondents ᶠ
Information collected | Number of respondents | Frequency of response | Responses per annum | Burden hour per response | Burden hours per annum | Hourly cost per response | Annual cost
Client Eligibility Documentation Form ᵃ | 4,478 | 1 | 4,478 | 0.08 | 358 | $33.46 | $11,987
Lost-to-Project Form ᵇ | 2,790 | 1 | 2,790 | 0.08 | 223 | 33.46 | 7,468
OAHM Program Documentation of Work Completed Form ᶜ | 2,250 | 1 | 2,250 | 0.50 | 1,125 | 33.46 | 37,643
Grantee Process Evaluation Online Survey Year 1 ᵈ | 32 | 1 | 32 | 4.00 | 128 | 33.46 | 4,283
Grantee Site Visit Interview Guide ᵉ | 5.3 | 2 | 10.6 | 2.00 | 21 | 33.46 | 709
Total Annual |  |  | 9,560.60 | 6.66 | 1,856 |  | 62,090
Total over 3 Years |  |  |  | 20.00 | 5,568 |  | 186,270
ᵃ Grantees are expected to complete the Client Eligibility Documentation form for all applicants, an estimated total of 13,433 forms over the three-year period of the OAHMP grant, or approximately 4,478 per year. This estimate is calculated based upon the assumption that 33% of applicants (approximately 4,433) will be determined ineligible for the program, and the $30 million in funding for the program will deliver home modifications to 9,000 eligible clients at an estimated average cost of $3,000 per home.
ᵇ Grantees are required to complete forms for all cases lost to the evaluation, estimated at 2,790 forms per year. This total reflects the three categories of lost to follow-up from the 4,478 estimated applicants per year: (1) 33% (~1,478) expected to be determined ineligible; (2) an additional 25% (~750) expected to decline to participate in the evaluation; and (3) an additional 25% (~562) expected to be lost to project follow up by the end of the evaluation period.
ᶜ Of the 3,000 clients per year, 75% (~2,250) are expected to sign the Informed Consent to participate in the evaluation.
ᵈ One PM from each of up to 32 grantees will complete the Grantee Process Evaluation Online Survey annually.
ᵉ The Contractor will administer the Grantee Site Visit Interview Guide to up to two grantee representatives during up to 16 site visits.
ᶠ Numbers may not sum due to rounding.

Table 7—Estimated Time and Costs to Client Respondents ᶠ
Information collection | Number of respondents | Frequency of response | Responses per annum | Burden hour per response | Burden hours per annum | Hourly cost per response | Annual cost
OAHM Client Program Questionnaire (Baseline) ᵃ | 3,000 | 1 | 3,000 | 0.10 | 300 | $11.31 | $3,393
OAHM Client Program Questionnaire (Post-modification) ᶜ | 1,688 | 1 | 1,688 | 0.10 | 169 | 11.31 | 1,909
OAHM Program Evaluation Informed Consent ᵇ | 2,250 | 1 | 2,250 | 0.25 | 563 | 11.31 | 6,362
Home Hazard Checklist (Baseline) ᵃ | 3,000 | 1 | 3,000 | 0.42 | 1260 | 11.31 | 14,251
Home Hazard Checklist (Post-modification) ᶜ | 1,688 | 1 | 1,688 | 0.42 | 709 | 11.31 | 8,018
OAHM Client Impact Evaluation Interview (Baseline) ᵇ | 2,250 | 1 | 2,250 | 0.33 | 743 | $11.31 | $8,398
OAHM Client Impact Evaluation Interview (Post-modification) ᶜ | 1,688 | 1 | 1,688 | 0.33 | 557 | 11.31 | 6,300
Script to Schedule Client Process Evaluation Interview ᵉ | 188 | 1 | 188 | 0.08 | 15 | 11.31 | 170
Client Process Evaluation Interview ᵈ | 169 | 1 | 169 | 0.50 | 85 | 11.31 | 956
Total Annual |  |  | 15,921 | 2.53 | 4,399 |  | 49,757
Total Over 3 Years |  |  |  | 7.59 | 13,197 |  | 149,271
ᵃ The program is expected to deliver home modifications to 9,000 eligible clients over the three-year period, or 3,000 clients per year. The Client Program Questionnaire will be administered and Home Hazard Checklist conducted prior to home modification being implemented (i.e., at baseline).
ᵇ Of the 3,000 clients per year, 75% (2,250) are expected to sign the Informed Consent to participate in the evaluation. The Client Impact Evaluation Interview will administered once consent is granted (i.e., at baseline).
ᶜ Of the 2,250 participating clients per year, 75% (1,688) are expected to remain in the project to receive home modifications. After home modifications are complete, the Client Program Questionnaire will be re-administered, the Home Hazard Checklist will be conducted again, and the Client Impact Evaluation Interview will be repeated (i.e., post-modification).
ᵈ Of the annual 1,688 clients who complete the program, 10% (169) will be interviewed about the process.
ᵉ 10% of those contacted for the process interview are expected to decline; to interview 169 clients, the Contractor expects to need to contact 188 clients.
ᶠ Numbers may not sum due to rounding.

Estimated Combined Time and Costs
| Annualized total grantee | Annualized total client | Annualize total combined | Total number of years | Total over three years
Hours | 1,856 | 4,399 | 6,255 | 3 | 18,765
Costs | $62,090 | $49,757 | $111,847 | 3 | $335,541

B. Solicitation of Public Comment

This notice is soliciting comments from members of the public and affected parties concerning the collection of information described in Section A on the following:

(1) Whether the proposed collection of information is necessary for the proper performance of the functions of the agency, including whether the information will have practical utility;

(2) If the information will be processed and used in a timely manner;

(3) The accuracy of the agency's estimate of the burden of the proposed collection of information;

(4) Ways to enhance the quality, utility, and clarity of the information to be collected; and

(5) Ways to minimize the burden of the collection of information on those who are to respond; including through the use of appropriate automated collection techniques or other forms of information technology, e.g., permitting electronic submission of responses.

HUD encourages interested parties to submit comment in response to these questions.

C. Authority

Section 3507 of the Paperwork Reduction Act of 1995, 44 U.S.C. Chapter 35.

Anna P. Guido,
Department Reports Management Officer, Office of the Chief Information Officer.

[FR Doc. 2021-27211 Filed 12-15-21; 8:45 am]

BILLING CODE 4210-67-P